DEPARTMENT OF TRANSPORTATION

Federal Aviation Administration

14 CFR Part 71

[Docket No. FAA 2002-13849; Airspace Docket No. 02-ASO-24]

RIN 2120-AA66

Revision of VOR Federal Airways in the Vicinity of Tuscaloosa, AL

AGENCY: Federal Aviation Administration (FAA), DOT.

ACTION: Final rule.

SUMMARY: This action revises the legal descriptions of four Very High Frequency Omnidirectional Range (VOR) Federal airways that include the Tuscaloosa, AL, Very High Frequency Omnidirectional Range/Tactical Air Navigation (VORTAC) facility in their route structures. Currently, the Tuscaloosa VORTAC and the Tuscaloosa Municipal Airport share the same name and location identifier. The fact that the VORTAC and the airport are not co-located has led to confusion among users. To eliminate this confusion, the Tuscaloosa VORTAC will be renamed “Crimson VORTAC,” and will be assigned a new location identifier “LDK.” This rule revises the descriptions of VOR Federal Airways V-18, V-66, V-245, and V-417 to reflect the name change of the VORTAC.

EFFECTIVE DATE: 0901 UTC, September 4, 2003.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

The Tuscaloosa VORTAC is located 4.4 nautical miles northeast of the Tuscaloosa Municipal Airport, Tuscaloosa, AL. The airport and the VORTAC currently share the same name and three-letter location identifier (i.e., TCL). The FAA's policy regarding the naming of navigation aids (NAVAID) states that a “NAVAID with the same name as the associated airport should be located on that airport. When the retention of the airport name at an off-airport NAVAID could lead to a potentially confusing situation, the NAVAID name should be changed.” There have been instances where the shared name/location identifier at Tuscaloosa has resulted in confusion in pilot/air traffic controller communications. Since the airport and the VORTAC are both located in an area lacking air traffic control radar coverage at low altitudes, confusion over aircraft clearance limits and/or routing could lead to a situation that would compromise aviation safety. To eliminate future confusion and enhance safety, the FAA has determined that the Tuscaloosa VORTAC name and identifier should be changed.

The Rule

This action amends 14 CFR part 71 by revising the legal descriptions of VOR Federal Airways V-18, V-66, V-245, and V-417, which include the Tuscaloosa, AL, VORTAC as part of their route structures. Currently, the Tuscaloosa VORTAC and the Tuscaloosa Municipal Airport share the same name and location identifier. The fact that the VORTAC and the airport are not co-located has led to confusion among users and presents a potential safety problem. In order to alleviate this problem, the “Tuscaloosa VORTAC” is being renamed the “Crimson VORTAC” and its location identifier is being changed to “LDK.” This rulemaking action is being taken to change all references in the affected VOR Federal airway route descriptions that read “Tuscaloosa, AL” to read “Crimson, AL.” This action makes an additional minor correction to the legal description for V-66 by adding the State abbreviation “TX” following the first use of the word “Hudspeth.” This abbreviation was inadvertently omitted in the previous legal description.

Section 553(b) permits an agency for good cause to forego notice and comment rulemaking when such action would be impracticable, unnecessary, or contrary to the public interest. In this instance, the FAA finds that this action is needed to improve safety and eliminate confusion. Thus, I find that notice and public procedure under 5 U.S.C. 553(b) are impracticable and contrary to the public interest.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

VOR Federal airways are published in paragraph 6010(a), of FAA Order 7400.9K, dated August 30, 2002, and effective September 16, 2002, which is incorporated by reference in 14 CFR 71.1. The VOR Federal airways listed in this document will be published subsequently in the Order.

Environmental Review

The FAA has determined that this action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

Adoption of Amendment

In consideration of the foregoing, the Federal Aviation Administration amends 14 CFR part 71 as follows:

PART 71—DESIGNATION OF CLASS A, B, C, D, AND E, AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9K, Airspace Designations and Reporting Points, dated August 30, 2002, and effective September 16, 2002, is amended as follows:

Paragraph 6010(a) Domestic VOR Federal Airways

* * * * *

V-18 [Revised]

From Guthrie, TX, via INT Guthrie 156° and Millsap, TX, 274° radials; Millsap; Glen Rose, TX; Cedar Creek, TX; Quitman, TX; Belcher, LA; Monroe, LA; Jackson, MS; Meridian, MS; Crimson, AL; Vulcan, AL; Talladega, AL; Atlanta, GA; Colliers, SC; Charleston, SC.

* * * * *

V-66 [Revised]

From Mission Bay, CA; Imperial, CA; 13 miles, 24 miles, 25 MSL; Bard, AZ; 12 miles, 35 MSL; INT Bard 089° and Gila Bend, AZ, 261° radials; 46 miles, 35 MSL; Gila Bend; Tucson, AZ, 7 miles wide (3 miles south and 4 miles north of centerline); Douglas, AZ; INT Douglas 064° and Columbus, NM, 277° radials; Columbus; El Paso, TX; 6 miles wide; INT El Paso 109° and Hudspeth, TX, 287° radials; 6 miles wide; Hudspeth; Pecos, TX; Midland, TX; INT Midland 083° and Abilene, TX, 252° radials; Abilene; to Millsap, TX. From Crimson, AL, Brookwood, AL; LaGrange, GA; INT LaGrange 120° and Columbus, GA, 068° radials; INT Columbus 068° and Athens, GA, 195° radials; Athens; Greenwood, SC; Sandhills, NC; Raleigh-Durham, NC; Franklin, VA, excluding the airspace above 13,000 feet MSL from the INT of Tucson, AZ, 122° and Cochise, AZ, 257° radials to the INT of Douglas, AZ, 064° and Columbus, NM, 277° radials.

* * * * *

V-245 [Revised]

From Alexandria, LA, via Natchez, MS; Jackson, MS; Bigbee, MS; INT Bigbee 082° and Crimson, AL, 304° radials; to Crimson.

* * * * *

V-417 [Revised]

From Monroe, LA, via INT Monroe 105° and Jackson, MS, 256° radials; Jackson; INT Jackson 111° and Meridian, MS, 262° radials; Meridian; Crimson, AL; Vulcan, AL; Rome, GA; INT Rome 060° and Electric City, SC, 274° radials; INT Electric City 274° and Athens, GA, 340° radials; Athens; Colliers, SC; Allendale, SC; to Charleston, SC.

* * * * *

Issued in Washington, DC, on July 2, 2003.
Reginald C. Matthews,
Manager, Airspace and Rules Division.

[FR Doc. 03-17361 Filed 7-8-03; 8:45 am]

BILLING CODE 4910-13-U